DEPARTMENT OF COMMERCE

National Oceanic and Atmospheric Administration

DEPARTMENT OF THE INTERIOR

Fish and Wildlife Service

RIN 0648-XV36

Stanford University Habitat Conservation Plan

AGENCIES: National Marine Fisheries Service (NMFS), National Oceanic and Atmospheric Administration (NOAA), Commerce; Fish and Wildlife Service, Interior (DOI).

ACTION: Notice of availability of draft environmental impact statement, multi-species habitat conservation plan, and receipt of application; notice of public meeting.

SUMMARY: This notice announces the availability of the Draft Environmental Impact Statement (DEIS) for Authorization for Incidental Take and Implementation of Stanford University Habitat Conservation Plan (Plan), and the Implementing Agreement (IA) for public review and comment. In response to receipt of an application from The Board of Trustees of Leland Stanford Junior University (Stanford; Applicant), the U.S. Fish and Wildlife Service and National Oceanic and Atmospheric Administration, National Marine Fisheries Service (Services), are considering the proposed action of issuing a 50-year permit for four federally listed species and one currently unlisted species. The proposed permit would authorize the incidental take of individual species listed under the Federal Endangered Species Act of 1973, as amended (ESA). The permit is needed because take of species could occur during the operation and maintenance of the University, academic activities, athletic and recreational activities, leasehold activities, urban development, and resource conservation activities associated with the Plan at Stanford, which is located on 8,180-acres in San Mateo County and Santa Clara County, California.

DATES: Written comments on the DEIS, Plan, and IA, must be received by 5 p.m. Pacific Time on July 12, 2010.

ADDRESSES: Comments concerning the DEIS, Plan, and IA can be sent by U.S. Mail, facsimile, or email to (1) Eric Tattersall, Chief, Conservation Planning and Recovery Division, Fish and Wildlife Service, Sacramento Fish and Wildlife Office, 2800 Cottage Way, Room W-2605, Sacramento, California 95825; facsimile (916) 414-6713; (2) Gary Stern, San Francisco Bay Region Supervisor at National Marine Fisheries Service, 777 Sonoma Avenue, Room 325, Santa Rosa, CA 95404, facsimile (707) 578-3435; or (3) Stanford.HCP@noaa.gov. Include the document identifier: Stanford HCP.

A public meeting will be held on May 25, 2010, from 7 p.m. to 9 p.m. at the Stanford University Tresidder Student Student Union Oak West Lounge, 459 Lagunita Drive, Stanford, CA.

FOR FURTHER INFORMATION CONTACT: Sheila Larsen, Senior Staff Biologist, U.S. Fish and Wildlife Service; telephone 707-575-6060.

SUPPLEMENTARY INFORMATION: Copies of the DEIS, Plan and IA are available for public review during regular business hours from 9 a.m. to 5 p.m. at the U.S. Fish and Wildlife Service, Sacramento Fish and Wildlife Office (see FOR FURTHER INFORMATION CONTACT), and the National Marine Fisheries Service, Santa Rosa Office (see FOR FURTHER INFORMATION CONTACT). Additionally, hard bound copies of the DEIS, Plan, and IA are available for viewing, or for partial or complete duplication, at the following locations:

1. Social Sciences Resource Center, Green Library, Room 121, Stanford, CA 94305

2. Palo Alto Main Library, 1213 Newell Road, Palo Alto, CA 94303.

Individuals wishing copies of the DEIS, Plan, or IA should contact either of the Services by telephone (see FOR FURTHER INFORMATION CONTACT) or by letter (see ADDRESSES). These documents are also available electronically for review on the NMFS Southwest Region website at: http://swr.nmfs.noaa.gov or the U.S. Fish and Wildlife Service, Sacramento Fish and Wildlife Office Website at http://www.fws.gov/sacramento/.

Background

Section 9 of the Federal ESA of 1973, as amended, and Federal regulations prohibit the take of fish and wildlife species listed as endangered or threatened (16 U.S.C. 1538). The term ''take'' means to harass, harm, pursue, hunt, shoot, wound, kill, trap, capture, or collect, or to attempt to engage in any such conduct (16 U.S.C. 1532). Harm includes significant habitat modification or degradation that actually kills or injures listed wildlife by significantly impairing essential behavioral patterns, including breeding, feeding, and sheltering (50 CFR 17.3(c)). The National Marine Fisheries Service further defines harm as an act which actually kills or injures fish or wildlife, and expands the list of essential behavioral patterns that can be impaired by habitat modification or degradation to include breeding, spawning, rearing, migrating, feeding or sheltering (50 CFR 222.102). Under limited circumstances, the Services may issue permits to authorize incidental take of listed fish or wildlife; i.e., take that is incidental to, and not the purpose of, otherwise lawful activity. Regulations governing incidental take permits for threatened and endangered species are found in 50 CFR 17.32 and 17.22, respectively.

Each of the Services has received an application for an incidental take permit for implementation of the Plan. The applications were prepared and submitted by The Board of Trustees of Leland Stanford Junior University (Applicant). The Applicant has prepared the Plan to satisfy the application requirements for a section 10(a)(1)(B) permit under the Federal ESA, of 1973, as amended.

The Applicant seeks a 50-year incidental take permit for covered activities within a proposed 8,180 acre permit area located in southern San Mateo and northern Santa Clara counties. The permit area includes all of Stanford's lands, which are located on portions of the Santa Cruz Mountains and at the base of the San Francisco Peninsula. Stanford University is located in two main watersheds, Matadero/Deer Creek and San Francisquito Creek watersheds. The San Francisquito Creek watershed spans San Mateo and Santa Clara Counties, and encompasses an area of approximately 45 square miles. This watershed includes San Francisquito, Los Trancos, Corte Madera, Bear, Dennis Martin, Sausal, and Alambique creeks, and portions of San Francisquito, Los Trancos, Corte Madera, and Bear creeks flow through Stanford lands. The Matadero Creek watershed is entirely within Santa Clara County, and portions of Matadero and Deer creeks flow through Stanford. In addition to significant riparian areas associated with the creeks, the permit area includes foothills, and most of the main campus is located on an alluvial plain located between the foothills and San Francisco Bay.

The Applicant has requested permits that will authorize the take of four animal species, which are currently listed as threatened or endangered under the Federal ESA, and one animal species that may become listed under the ESA. Proposed covered species includes the federally listed as threatened California tiger salamander (Ambystoma californiense), California red-legged frog (Rana aurora draytonii), San Francisco garter snake (Thamnophis sirtalis tetrataenia), and Central California Coast steelhead (Oncorhynchus mykiss). Proposed covered species also includes one animal species that is not listed under the Federal ESA at the current time: the western pond turtle (Clemmys marmorata).

If the proposed Plan is approved and the permit issued, take authorization of covered listed species would be effective at the time of permit issuance. Take of the currently non-listed covered species would be authorized concurrent with the species' listing under the Federal ESA, should it be listed during the duration of the permit.

The proposed Plan is intended to be a comprehensive document, providing for species conservation and habitat planning, while allowing the applicant to better manage ongoing operations and future growth. The proposed Plan also is intended to provide a coordinated process for permitting and mitigating the take of covered species as an alternative to a project-by-project approach.

In order to comply with the requirements of the Federal ESA, the proposed Plan addresses a number of required elements, including: species and habitat goals and objectives; evaluation of the effects of covered activities on covered species, including indirect and cumulative effects; a conservation strategy; a monitoring and adaptive management program; descriptions of changed circumstances and remedial measures; identification of funding sources; and an assessment of alternatives to take of listed species.

The Plan divides the permit area into four “zones.” Zone 1 supports one or more of the covered species or provides critical resources for the species. Zone 2 areas are occasionally occupied by a covered species and provide some of the resources used by the species, or buffers between occupied habitat and urbanized areas. Zone 3 consists of generally undeveloped land that provides only limited and indirect benefit to the covered species. Zone 4 includes urbanized areas that do not support the covered species. The Plan covers the ongoing operation and maintenance of the University, existing facilities, and a limited amount of future development. Ongoing operations and maintenance are divided into the following categories of activities: water management; creek maintenance; academic activities; utility installation and maintenance; general infrastructure; recreation and athletics; grounds and vegetation; agricultural and equestrian leaseholds; and commercial and institutional leaseholds. Up to 180 acres of development in Zones 1, 2, and 3 are also covered by the Plan, but the Plan does not supersede any permitting or entitlement required by other regulations.

The Plan's proposed conservation strategy is designed to minimize and mitigate the impacts of covered activities, improve habitat conditions for listed covered species, and protect populations of the non-listed covered species. The Plan includes minimization measures that would avoid and minimize the take of covered species from ongoing operation and maintenance of the University and future development. The Plan also includes mitigation for the loss of habitat, and proposes to conserve approximately 360 acres of riparian habitat within conservation easements within one year of issuance of the permits. Additional riparian habitat would be preserved as needed. A 315-acre “California Tiger Salamander Reserve” also would be established at the outset of the Plan. No development would be permitted within the Reserve for the term of the permits, and habitat within the Reserve would be permanently protected to offset any loss of tiger salamander habitat that occurs during the permit term. Habitat protected under the Plan would be managed and monitored, and annual reports documenting the status of the species and compliance with the Plan would be submitted to the Services. In addition to the minimization measures and mitigation for the loss of habitat, the Plan includes a number of potential habitat enhancements that Stanford may perform during the term of the permits. Other conservation activities include a California tiger salamander management plan that covers 95 acres, including Lagunita Reservoir and habitat around Lagunita Reservoir.

National Environmental Policy Act Compliance

Proposed permit issuance triggers the need for compliance with the National Environmental Policy Act (NEPA). As co-lead agencies, the Services have prepared a DEIS which evaluates the impacts of the proposed issuance of the permit and implementation of the Plan, as well as a reasonable range of alternatives.

The DEIS analyzes three alternatives including the issuance of incidental take permits and applicant implementation of the proposed Plan described above. The issuance of 50-year take permits and applicant implementation of the proposed Plan is considered the Preferred Alternative. Two other alternatives being considered by the Services include the following:

Under the No Action Alternative, the Services would not issue incidental take permits for implementation of the Stanford University Habitat Conservation Plan. As a result, the Applicant would likely seek individual incidental take authorization as needed for new projects and ongoing operations that would result in the take of federally listed species.

Under the California Tiger Salamander Only Alternative, Stanford would prepare a Habitat Conservation Plan only for the California tiger salamander, and obtain section 10 authorization only for the take of California tiger salamander. Future development and ongoing activities that would result in the take of other listed species would be permitted individually, as needed.

Public Comments

The Services invite the public to comment on the draft Plan, draft IA, and DEIS during a 90-day public comment period beginning on the date of this notice. All comments and materials received, including names and addresses, will become part of the administration record and may be released to the public. Our practice is to make comments, including names, home addresses, home telephone numbers, and email addresses of respondents available for public review. Before including your address, phone number, e-mail address, or other personal identifying information in your comment, you should be aware that your entire comment including your personal identifying information may be made publicly available at any time. While you may ask us in your comment to withhold your personal identifying information from public review, we cannot guarantee that we will be able to do so.

This notice is provided pursuant to section 10(c) of the Act and regulations for implementing NEPA, as amended (40 CFR 1506.6), We provide this notice in order to allow the public, agencies, or other organizations to review and comment on these documents.

Special Accommodations

The public meeting is physically accessible to people with disabilities. Requests for sign language interpretation or other auxiliary aids should be directed to Gary Stern, National Marine Fisheries Service, at 707-575-6060, at least 5 working days prior to the meeting date.

Next Steps

The Services will evaluate the applications, associated documents, and public comments submitted to them to prepare a final EIS. A permit decision will be made no sooner than 30 days after the publication of the final EIS and completion of the Record of Decision.

Dated: April 7, 2010.
Ken McDermond,
Deputy Region Director, Pacific Southwest Region, U.S. Fish and Wildlife Service.

Dated: April 7, 2010.
Angela Somma,
Chief, Endangered Species Division, Office of Protected Resources, National Marine Fisheries Service.

[FR Doc. 2010-8300 Filed 4-9-10; 8:45 am]

BILLING CODES 3510-22-S, 4310-55-S